COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) from the Procurement List previously furnished by such agencies.

DATES: Date added to and deleted from the Procurement List: July 7, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION:

Additions

On 4/26/2024 (89 FR 32404) and 4/1/2024 (89 FR 28752), the Committee for Purchase From People Who Are Blind or Severely Disabled (operating as the U.S. AbilityOne Commission) published an initial notice of proposed additions to the Procurement List. The Committee determined that the service(s) listed below are suitable for procurement by the Federal Government and has added services to the Procurement List as a mandatory purchase for contracting activities listed. In accordance with 41 CFR 51-5.3(b), the mandatory purchase requirement is limited to the contracting activity at the locations, and in accordance with 41 CFR 51-5.2, the Committee has authorized NPAs listed as the mandatory source(s) of supply.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Verbatim Transcription Service

Mandatory for: COMPACFLT, Commander, U.S. Pacific Fleet, Pearl Harbor, HI

Authorized Source of Supply: Lighthouse for the Blind of Houston, Houston, TX

Contracting Activity: DEPT OF THE NAVY, NAVSUP FLT LOG CTR PEARL HARBOR

Service Type: Custodial

Mandatory for: US Geological Survey, Earth Resources Observation Science (EROS) Center, Sioux Falls, SD

Authorized Source of Supply: Northwest Center, Seattle, WA

Contracting Activity: US GEOLOGICAL SURVEY, US GEOLOGICAL SURVEY

Service Type: Base Information Transfer Center & Postal Service, Mail Distribution Service

Mandatory for: US Army, Central Mail Facility, Redstone Arsenal, Huntsville, AL

Authorized Source of Supply: Huntsville Rehabilitation Foundation, Inc., Huntsville, AL

Contracting Activity: DEPT OF THE ARMY, W6QK ACC-RSA

Deletions

On 5/3/2024 (89 FR 3677), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

8415-00-NIB-0810—Glove, Vinyl, Industrial/Non-Medical Grade, Small

8415-00-NIB-0811—Glove, Vinyl, Industrial/Non-Medical Grade, Medium

8415-00-NIB-0812—Glove, Vinyl, Industrial/Non-Medical Grade, Large

8415-00-NIB-0813—Glove, Vinyl, Industrial/Non-Medical Grade, XLarge

Mandatory Source of Supply: BOSMA Enterprises, Indianapolis, IN

Contracting Activity: STRATEGIC ACQUISITION CENTER, FREDERICKSBURG, VA

NSN(s)—Product Name(s):

6508-01-694-1827—Refill, PURELL-SKILCRAFT, Healthcare Advanced Hand Sanitizer, Ultra Nourishing Foam, ES8 System

Mandatory Source of Supply: Travis Association for the Blind, Austin, TX

Contracting Activity: DLA TROOP SUPPORT, PHILADELPHIA, PA

Michael R. Jurkowski,
Director, Business Operations.

[FR Doc. 2024-12480 Filed 6-6-24; 8:45 am]

BILLING CODE 6353-01-P